SOCIAL SECURITY ADMINISTRATION

[Docket No. SSA-2011-0091]

Occupational Information Development Advisory Panel Meeting

AGENCY: Social Security Administration (SSA).

ACTION: Notice of upcoming panel teleconference meeting.

DATES: December 7, 2011, 12 p.m.-2 p.m. (EDT).

Call-in number: (866) 238-1665.

Leader/Host: Leola S. Brooks.

SUPPLEMENTARY INFORMATION: Type of meeting: The teleconference meeting is open to the public.

Purpose: The Occupational Information Development Advisory Panel (panel) is a discretionary panel, established under the Federal Advisory Committee Act of 1972, as amended. The panel provides independent advice and recommendations to us on the creation of an occupational information system for use in our disability programs and for our adjudicative needs. We require advice on the research design of the Occupational Information System, including the development and testing of a content model and taxonomy, work analysis instrumentation, sampling, and data collection and analysis.

Agenda: The Designated Federal Officer will post the meeting agenda on the Internet at http://www.ssa.gov/oidap/meeting_information.htm at least one week prior to the start date. You can also receive a copy electronically by email or by fax, upon request. We retain copies of all proceedings, available for public inspection by appointment at the panel's office.

The panel will not hear public comment during this teleconference meeting.

Contact Information: Anyone requiring information regarding the panel should contact the staff by: Mail addressed to the Occupational Information Development Advisory Panel, Social Security Administration, 6401 Security Boulevard, Robert M. Ball Federal Building, 3-E-26, Baltimore, MD 21235-6401, fax to (410) 597-0825, or Email to OIDAP@ssa.gov.

Leola S. Brooks,
Designated Federal Officer, Occupational Information Development Advisory Panel.

[FR Doc. 2011-29438 Filed 11-14-11; 8:45 am]

BILLING CODE 4191-02-P